ENVIRONMENTAL PROTECTION AGENCY

40 CFR Part 70

[TN-T5-2001-02; FRL-6977-6]

Clean Air Act Full Approval of Operating Permit Program; Tennessee and Memphis-Shelby County

AGENCY: Environmental Protection Agency (EPA).

ACTION: Withdrawal of direct final rule.

SUMMARY: Due to adverse comments, EPA is withdrawing the direct final rule published in the Federal Register on March 20, 2001, promulgating full approval of the operating permit programs submitted by the Tennessee Department of Environment and Conservation and the Memphis-Shelby County Health Department.

DATES: The direct final rule published on March 20, 2001, in the Federal Register (66 FR 15635) is withdrawn as of May 11, 2001.

ADDRESSES: The docket containing supporting information used in the development of this notice is available for inspection during normal business hours at EPA Region 4, Air & Radiation Technology Branch, 61 Forsyth Street, SW, Atlanta, Georgia 30303-8909. Anyone wanting to examine these documents should make an appointment by calling the person listed below at least two working days in advance.

FOR FURTHER INFORMATION CONTACT: Kim Pierce, EPA Region 4, at (404) 562-9124 or pierce.kim@epa.gov/.

SUPPLEMENTARY INFORMATION: On March 20, 2001, EPA published a direct final rule (66 FR 15635) and a parallel proposal (66 FR 15680) to fully approve the operating permit programs of the Tennessee Department of Environment and Conservation and the Memphis-Shelby County Health Department. The Tennessee and Memphis-Shelby County operating permit programs were submitted in response to the directive in the 1990 Clean Air Act (CAA) Amendments that permitting authorities develop, and submit to EPA, programs for issuing operating permits to all major stationary sources and to certain other sources within the permitting authorities' jurisdiction. EPA granted interim approval to the Tennessee and Memphis-Shelby County operating permit programs on July 29, 1996. Tennessee and Memphis-Shelby County revised their programs to satisfy the conditions of the interim approval and the direct final rule published on March 20, 2001, would have approved those revisions along with other program changes made by Tennessee since the interim approval was granted.

The EPA stated in the March 20, 2001, action that if adverse comments were received by April 19, 2001, EPA would publish a timely withdrawal of the direct final rule. The EPA did receive adverse comments and is, therefore, withdrawing the March 20, 2001, action and informing the public that the direct final rule will not take effect on May 21, 2001. The commenter expressed concern that Tennessee is issuing operating permits that do not provide for compliance with all applicable requirements. The EPA will address the specific comments in a subsequent final action based on the parallel proposal published on March 20, 2001.

As stated in the parallel proposal, EPA will not institute a second comment period on this action. However, in response to a request from George Hays as counsel for the National Parks Conservation Association, EPA is publishing a notice in the proposed rules section of this Federal Register to reopen the public comment period in the March 20, 2001, proposal.

Dated: May 2, 2001.
A. Stanley Meiburg,
Acting, Regional Administrator, Region 4.

[FR Doc. 01-11910 Filed 5-10-01; 8:45 am]

BILLING CODE 6560-50-P